DEPARTMENT OF THE INTERIOR

National Park Service

[NPS-WASO-NAGPRA-22454; PPWOCRADN0-PCU00RP14.R50000]

Notice of Inventory Completion: Glenn A. Black Laboratory of Archaeology at Indiana University, Bloomington, IN

AGENCY: National Park Service, Interior.

ACTION: Notice.

SUMMARY: The Glenn A. Black Laboratory of Archaeology at Indiana University has completed an inventory of human remains and associated funerary objects in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to the Indiana University NAGPRA Office. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the Indiana University NAGPRA Office at the address in this notice by January 3, 2017.

ADDRESSES: Dr. Jayne-Leigh Thomas, NAGPRA Director, Indiana University, NAGPRA Office, Student Building 318, 701 E. Kirkwood Ave., Bloomington, IN 47405, telephone (812) 856-5315, email thomajay@indiana.edu.

SUPPLEMENTARY INFORMATION: Notice is here given in accordance with the Native American Graves Protection and Repatriation Act (NAGPRA), 25 U.S.C. 3003, of the completion of an inventory of human remains and associated funerary objects under the control of the Glenn A. Black Laboratory of Archaeology at Indiana University, Bloomington, IN. The human remains and associated funerary objects were removed from Tipton County, TN.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by Indiana University professional staff in consultation with representatives of the Quapaw Tribe of Oklahoma and the Chickasaw Nation. While the area where the human remains were removed is the aboriginal homeland of the Chickasaw Nation as documented by treaty cession area, the Quapaw Tribe of Oklahoma has claim to these remains based on cultural affinity, material culture, and physical occupation of the area.

History and Description of the Remains

In 1953, human remains representing, at minimum, one individual were recovered from the Bishop site in Tipton County, TN. The 52 associated funerary objects are pottery sherds. This material was received at the Glenn A. Black Laboratory of Archaeology as a gift from Mr. Wiley Wilcox.

The Bishop site has been assigned to the Nodena Phase, which is characterized by Mississippian Bell Plain pottery and has been culturally affiliated with the Quapaw. The majority of the pot sherds with this collection are Bell Plain variety. Archaeological material from the Bishop site has already previously been repatriated to the Quapaw Tribe of Oklahoma.

Oral traditions indicate that the Quapaw tribe originated in the Lower Ohio River Valley and eventually moved downstream to reside on both sides of the Mississippi River. The Quapaw maintained a presence in the Central Mississippi valley until their removal to northwest Louisiana in 1824 when their lands in the Territory of Arkansas were ceded to the United States.

Determinations Made by Indiana University

Officials of the Glenn A. Black Laboratory of Archaeology at Indiana University have determined that:

• Pursuant to 25 U.S.C. 3001(9), the human remains described in this notice represent the physical remains of one individuals of Native American ancestry.

• Pursuant to 25 U.S.C. 3001(3)(A), the 52 objects described in this notice are reasonably believed to have been placed with or near individual human remains at the time of death or later as part of the death rite or ceremony.

• Pursuant to 25 U.S.C. 3001(2), there is a relationship of shared group identity that can be reasonably traced between the Native American human remains and the Quapaw Tribe of Oklahoma.

Additional Requestors and Disposition

Lineal descendants or representatives of any Indian tribe or Native Hawaiian organization not identified in this notice that wish to request transfer of control of these human remains should submit a written request with information in support of the request to Dr. Jayne-Leigh Thomas, NAGPRA Director, Indiana University, NAGPRA Office, Student Building 318, 701 E. Kirkwood Ave., Bloomington, IN 47405, telephone (812) 856-5315, email thomajay@indiana.edu, by January 3, 2017. After that date, if no additional requestors have come forward, transfer of control of the human remains and associated funerary objects to the Quapaw Tribe of Oklahoma may proceed.

Indiana University is responsible for notifying the Quapaw Tribe of Oklahoma that this notice has been published.

Dated: November 18, 2016.
Melanie O'Brien,
Manager, National NAGPRA Program.

[FR Doc. 2016-28945 Filed 12-1-16; 8:45 am]

BILLING CODE 4312-52-P